DEPARTMENT OF AGRICULTURE

Agricultural Marketing Service

[FV-01-330]

United States Standards for Grades of Frozen Field Peas and Frozen Black-Eye Peas

AGENCY: Agricultural Marketing Service, USDA.

ACTION: Notice.

SUMMARY: The Agricultural Marketing Service (AMS) of the Department of Agriculture (USDA) is revising the United States Standards for Grades of Frozen Field Peas and Frozen Black-Eye Peas. Specifically, USDA is providing for the “individual attributes” procedure for product grading with sample sizes, acceptable quality levels (AQL's), tolerances and acceptance numbers (number of allowable defects) in the grade standards. This revision will also provide a uniform format consistent with other recently revised U.S. grade standards by adopting definitions for terms and replacing textual descriptions with easy-to-read tables and other editorial changes. These changes will improve use of the standards.

EFFECTIVE DATE: December 13, 2001.

FOR FURTHER INFORMATION CONTACT: Randle A. Macon, Processed Products Branch, Fruit and Vegetable Programs, AMS, USDA, STOP 0247, 1400 Independence Ave., SW., Washington, DC 20250-0247; ph.: (202) 720-5021; fax; (202) 690-1527; or e-mail to randle.macon@usda.gov. The current United States Standards for Grades of Frozen Field Peas and Frozen Black-Eye Peas, along with the revision, are available either through the above address or by accessing AMS's Web site on the Internet at www.ams.usda.gov/fv/ppb.html. The United States Standards for Grades of Frozen Field Peas and Frozen Black-Eye Peas do not appear in the Code of Federal Regulations.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards to encourage uniformity and consistency in commercial practices. * * *” AMS is committed to carrying out this authority in a manner that facilitates the marketing of agricultural commodities and makes copies of official standards available upon request. The United States Standards for Grades of Fruits and Vegetables do not appear in the Code of Federal Regulations but are maintained by USDA.

AMS is revising the U.S. Standards for Grades of Frozen Field Peas and Frozen Black-Eye Peas using the procedures that appear in part 36 of Title 7 of the Code of Federal Regulations (7 CFR part 36).

Proposed by the Petitioner

The petitioner, the American Frozen Food Institute (AFFI), petitioned the USDA to revise the U.S. Grade Standards for Frozen Field Peas and Frozen Black-Eye Peas. It was specifically requested that the “individual attributes” system of grading, be incorporated into the revision. “Individual attributes” provide statistically derived acceptable quality levels (AQL's) based on the tolerances in the grade standards.

The current standards are based on an older “attributes” model. It is proposed that the standards be modified to convert them to the improved “individual attributes” grading system, similar to the U.S. grade standards for canned green and wax beans (58 FR 4295, January 14, 1993).

AMS prepared a discussion draft of the frozen field peas, frozen black-eye peas standard, and distributed copies for input to AFFI and the National Food Processors Association (NFPA). Input from the above groups was used to develop the proposed standards.

Proposed by Fruit and Vegetable Programs, AMS

Based on the results of the information gathered, AMS prepared and published a notice proposing to revise the U.S. Grade Standards for Frozen Field Peas and Frozen Black-Eye Peas in the Federal Register February 9, 2000, with a 60-day comment period, proposing changes to the United States Standards for Grades of Frozen Field Peas and Frozen Black-Eye Peas in the Federal Register (65 FR 7486).

AMS received comments on the Notice from AFFI. AFFI recommended changing part of the product description to include a provision that “Frozen peas may contain succulent, unshelled pods of the field pea plant or small sieve round type succulent pods of the green bean plant as an optional ingredient used as a garnish.” The purpose of the recommendation is to make the standards consistent with current industry practices. Changes in mechanical harvesting have lowered the supply of “snaps” (immature pods) from the field pea plant. Snaps were customarily used as a garnish. In order to maintain the custom, the industry wants to use the succulent pod of the green pea plant, which are readily available, using current harvesting practices. This recommendation has merit. Accordingly, we are incorporating this change into the standard.

AFFI also recommended that the second category for “Color Defectives” in Table Ii, “AQL's and Tolerances for Defects in White Acre Frozen Peas”, of the proposed draft of the grade standards be eliminated along with the corresponding footnotes. We are dropping the footnote and the second category, as AFFI recommends, because both were left in the table inadvertently. Since Table II refers to White acre peas only, footnote 2/ “For Crowder Peas Only” and the second category “Color Defectives” (for crowder peas), do not apply.

Based on these changes, the revisions would modify the standards to present them in a simplified easy-to-use format. Consistent with recent revisions of other U.S. grade standards, definitions of terms and easy-to-read tables would replace the textual descriptions. These changes are intended to facilitate better understanding and more uniform application of the grade standards.

This revision becomes effective 30 days after date of publication of this notice in the Federal Register.

Authority: 7 U.S.C. 1621-1627.

Dated: November 6, 2001.
A.J. Yates,
Administrator, Agricultural Marketing Service.

[FR Doc. 01-28271 Filed 11-9-01; 8:45 am]

BILLING CODE 3410-02-M